DEPARTMENT OF THE INTERIOR

National Park Service

60-Day Notice of Intention To Request Clearance of Information; Opportunity for Public Comment

AGENCY: National Park Service, Department of the Interior.

ACTION: Notice and request for comments.

SUMMARY: Under the provisions of the Paperwork Reduction Act of 1995 (Pub. L. 104-13, 44 U.S.C., Chapter 3507) and 5 CFR Part 1320, Reporting and Recordkeeping Requirements, the National Park Service (NPS) invites public comments on a new collection (OMB # 1024-XXXX).

DATES: Public comments on this notice will be accepted on or before August 25, 2006 to be assured of consideration.

ADDRESSES: Send comments to: Cherri Espersen, Outdoor Recreation Planner, Rivers, Trails and Conservation Assistance Program, National Park Service, 1849 C Street, NW., (Org Code 2235), Washington, DC 20240. E-mail: Cherri_Espersen@nps.gov. Phone: (202) 354-6900, Fax: (202) 371-5179.

FOR FURTHER INFORMATION CONTACT: Charlie Stockman, Acting Chief, Rivers, Trails and Conservation Assistance Program, National Park Service, 1849 C Street, NW. (Org Code 2235), Washington, DC 20240. E-mail: Charlie_Stockman@nps.gov.

SUPPLEMENTARY INFORMATION: Title: Application Guidelines for the Rivers, Trails, and Conservation Assistance Program.

OMB Number: To be requested.

Expiration Date: To be requested.

Type of Request: New collection.

Description of Need: The National Park Service (NPS) provides assistance to communities to conserve their local natural resources and develop new close-to-home outdoor recreation opportunities through the Rivers, Trails, and Conservation Assistance (RTCA) Program. RTCA staff work in urban, rural, and suburban communities to help applicants to conserve rivers, preserve open space, and develop trails and greenways. This notice is provided to make potential applicants aware of the RTCA Program and how they can apply for technical assistance through the program. RTCA provides a variety of assistance, but does not provide direct grants.

The proposed information collections impose no data collection or recordkeeping burden on the potential respondents. Responding to the proposed collections is voluntary and is based on data that the respondents already collect and/or personal opinion. Public comments are invited on this new collection.

Application Guidelines

It is recommended that potential applicants contact our regional program staff to discuss their interests and seek guidance before applying. Applications for RTCA assistance are competitively evaluated by our regional offices. Projects are locally-requested and led and should include significant public involvement and outreach. Projects should also include the commitment, cooperation and cost-sharing of all partners. RTCA assistance is for one year and may be renewed for a second year if warranted.

Application Letters (One to Three Pages) Should Include the Following Information

1. Contact Information

Please provide information about the initial project partner(s), including name of a primary contact, organization, address, phone, fax, and e-mail. Designate a lead project partner.

2. Project Description and Anticipated Results

• Provide the name of the project and project location.

• Identify what populations in your community will be served by the project.

• Describe briefly the anticipated results of the project and why the project is important.

• Identify anticipated on-the-ground results: For example, resources created, conserved, enhanced or made available to the public—the number of river miles improved by restoration projects; the number of river miles conserved with enhanced protection status; the number of multi-use trail miles created; the number of acres of parkland created; the number of acres of wildlife habitat restored.

• Describe the related important natural, cultural, historic, scenic, and recreational resources within the project area.

• Describe other expected accomplishments: For example, an increased community commitment to stewardship, a new conservation organization, or the development of a concept plan for a trail.

• Outline background or prior activity on the project (if any), the current status, and a proposed schedule for completion.

3. Commitment for Public Involvement

Describe the type and level of public involvement you anticipate during the development of this project.

4. Roles, Resources, and Contributions

• Describe the kind of technical assistance or role you are seeking from the RTCA program.

• Describe the roles and contributions of all project partners listed in part 1 above.

• Identify other types of resources available for the implementation of your project.

5. Support for the Project

• Describe the support you anticipate from interested stakeholders, such as public agencies, nonprofit organizations, and landowners.

• Support letters from elected officials, community leaders, and cooperating organizations are strongly recommended.

Related Strategic Initiative (optional)

Describe how the project:

—Provides physical connections among resources;

—Includes an NPS area as an actively involved project partner;

—Includes both natural resource conservation and outdoor recreation;

—Partners with a health organization.

The national deadline for projects set to start the following fiscal year (which runs from October 1 to September 30) is August 1. Final project selection is generally completed in early November after passage of the Federal budget.

For more information on the RTCA Program and how to apply for assistance, please visit our national Web site at http://www.nps.gov/rtca or call us at 202-354-6900. Contact information for all of our regional offices is available on the RTCA Web site under “Contact Us.” NPS specifically requests comments on: (1) The need for information including whether the information has practical utility; (2) the accuracy of the reporting burden hour estimate; (3) ways to enhance the quality, utility, and clarity of the information being collected; and (4) ways to minimize the burden of information collection on respondents, including the use of automated collection techniques or other forms of information technology.

Description of Respondents: This is a notice to any federal, state or local agency, tribe, non-profit organization, or citizens' group that might be interested in receiving assistance from the RTCA program.

Estimated Average Number of Respondents: 250.

Estimated Average Number of Responses: 250.

Estimated Average Burden Hours per Response: 4 hours.

Frequency of Response: One time per request for assistance.

Estimated Annual Reporting Burden: 1,000 hrs.

Dated: May 23, 2006.
Leonard E. Stowe,
NPS, Information Collection Clearance Officer.

[FR Doc. 06-5658 Filed 6-23-06; 8:45 am]

BILLING CODE 4312-52-M